NUCLEAR REGULATORY COMMISSION

[Docket No. 40-8681]

International Uranium (USA) Corporation; Notice of Receipt of Request To Process Alternate Feed

AGENCY: Nuclear Regulatory Commission.

ACTION: Notice of Receipt of Request from International Uranium (USA) Corporation to Amend Source Material License SUA-1358 to Receive and Process Alternate Feed Materials; Notice of Opportunity for Hearing.

SUMMARY: Notice is hereby given that the U.S. Nuclear Regulatory Commission has received, by letter dated December 19, 2000, a request from International Uranium (USA) Corporation (IUSA), to amend its NRC Source Material License SUA-1358, to allow its White Mesa Uranium Mill near Blanding, Utah, to receive and process up to 17,750 tons of alternate feed material from the Molycorp Site located in Mountain Pass, California. The material is a result of extraction of lathanides and other rare earth minerals and is presently being stored in ponds as lead sulfide sludge. IUSA and Molycorp estimate the amount of material for this amendment request to be up to 17,750 tons and the average uranium content of the material to be approximately 0.15 percent, or greater. IUSA proposes to receive and process the material for its uranium content and dispose of the byproduct material in the mill's tailings cells.

FOR FURTHER INFORMATION CONTACT: Mr. William von Till, Fuel Cycle Licensing Branch, Division of Fuel Cycle Safety and Safeguards, Office of Nuclear Material Safety and Safeguards, U.S. Nuclear Regulatory Commission, Mail Stop T-8A33, Washington, D.C. 20555. Telephone: (301) 415-6251.

SUPPLEMENTARY INFORMATION: By its submittal dated December 19, 2000, IUSA requested that the NRC amend Materials License SUA-1358 to allow the receipt and processing of material other than natural uranium ore (i.e., alternate feed material) at its White Mesa uranium mill located near Blanding, Utah. These materials would be used as an “alternate feed material” (i.e., matter that is processed in the mill to remove the uranium but which is different from natural uranium ores, the normal feed material).

Since 1951, Molycorp has operated a surface mining and milling operation for the recovery and chemical separation of lanthanides and other rare earth metals from bastnasite ores. From 1965 through 1984, Molycorp constructed and operated three lead sulfide ponds for the evaporation of lead sulfides from the clarifier/thickener operation. The lead sulfide sludge contains uranium, which is also precipitated in the thickener. The ponds were taken out of service in 1984, and in 1997 Molycorp drafted a Closure Plan for the decommissioning of the ponds which required the removal and off-site disposal or recovery of the lead sulfide sludge contained in the ponds. This amendment request seeks authorization to process the lead sulfide sludges for their uranium content. IUSA has determined that the material does not contain listed hazardous waste as defined in the Resource Recovery and Conservation Act, as amended, 42 U.S.C. Section 6901-6991. IUSA proposes to temporarily store the material on the existing storage pad until a sufficient quantity of material is available to begin processing. IUSA will utilize water sprays, as required, to minimize dusting during dumping activities. The material will be processed utilizing an acid leach, in existing mill equipment, to dissolve the uranium. The solution will then be advanced through the mill circuitry with no significant physical modifications.

The material will be shipped using exclusive-use trucks from the Mountain Pass facility to the mill in lined, covered, aluminum end-dump trailers. Molycorp estimates that it will ship approximately 60-70 trucks per week for an estimated period of 60 to 90 days. The transportation route as proposed, will follow route I-15 and I-70 to U.S. Highway 191 at Crescent Junction, Utah and through Highway 191 south to the mill.

This application will be reviewed using NRC formal guidance, “Interim Guidance on the Use of Uranium Mill Feed Material Other Than Natural Ores” provided in the NRC Regulatory Issue Summary 2000-23 (November 30, 2000). The NRC has approved similar amendment requests in the past for separate alternate feed material under this license.

The amendment application is available for public inspection and copying at the NRC Public Document Room, in the Gelman Building, 2120 L Street N.W., Washington D.C. 20555.

Notice of Opportunity for Hearing

The NRC hereby provides notice of an opportunity for a hearing on the license amendment under the provisions of 10 CFR Part 2, Subpart L, “Informal Hearing Procedures for Adjudications in Materials and Operator Licensing Proceedings.” Pursuant to § 2.1205(a), any person whose interest may be affected by this proceeding may file a request for a hearing. In accordance with § 2.1205(d), a request for hearing must be filed within 30 days of the publication of this notice in the Federal Register. The request for a hearing must be filed with the Office of the Secretary, either:

(1) By delivery to the Docketing and Service Branch of the Office of the Secretary at One White Flint North, 11555 Rockville Pike, Rockville, MD 20852; or

(2) By mail or telegram addressed to the Secretary, U.S. Nuclear Regulatory Commission, Washington, DC 20555, Attention: Docketing and Service Branch.

In accordance with 10 CFR 2.1205(f), each request for a hearing must also be served, by delivering it personally or by mail, to:

(1) The applicant, International Uranium (USA) Corporation, Independence Plaza, Suite 950, 1050 Seventeenth Street, Denver, Colorado 80265; Attention: Michelle Rehmann; and

(2) The NRC staff, by delivery to the Executive Director for Operations, One White Flint North, 11555 Rockville Pike, Rockville, MD 20852, or by mail addressed to the Executive Director for Operations, U.S. Nuclear Regulatory Commission, Washington, DC 20555.

In addition to meeting other applicable requirements of 10 CFR part 2 of the NRC's regulations, a request for a hearing filed by a person other than an applicant must describe in detail:

(1) The interest of the requestor in the proceeding;

(2) How that interest may be affected by the results of the proceeding, including the reasons why the requestor should be permitted a hearing, with particular reference to the factors set out in § 2.1205(h);

(3) The requestor's areas of concern about the licensing activity that is the subject matter of the proceeding; and

(4) The circumstances establishing that the request for a hearing is timely in accordance with § 2.1205(d).

The request must also set forth the specific aspect or aspects of the subject matter of the proceeding as to which petitioner wishes a hearing.

In addition, members of the public may provide comments on the subject application within 30 days of the publication of this notice in the Federal Register. The comments may be provided to Michael T. Lesar, Acting Chief, Rules Review and Directives Branch, Division of Administration Services, Office of Administration, U.S. Nuclear Regulatory Commission, Washington DC 20555.

Dated at Rockville, Maryland, this 3rd day of January, 2001.
For the Nuclear Regulatory Commission.
Daniel Gillen,
Acting Chief, Fuel Cycle Licensing Branch, Division of Fuel Cycle Safety & Safeguards, Office of Nuclear Material Safety and Safeguards.

[FR Doc. 01-601 Filed 1-8-01; 8:45 am]

BILLING CODE 7590-01-P